DEPARTMENT OF TRANSPORTATION

Office of the Secretary

Notice of Applications for Certificates of Public Convenience and Necessity and Foreign Air Carrier Permits Filed Under Subpart B (Formerly Subpart Q) During the Week Ending October 2, 2010

The following Applications for Certificates of Public Convenience and Necessity and Foreign Air Carrier Permits were filed under Subpart B (formerly Subpart Q) of the Department of Transportation's Procedural Regulations(See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0242.

Date Filed: September 28, 2010.

Due Date for Answers, Conforming Applications, or Motion To Modify Scope:October 19, 2010.

Description:

Application of Compass Airlines, Inc. (“Compass”) requesting the Department of Transportation disclaim jurisdiction over the corporate reorganization of Compass in which Compass will be converted from a Delaware corporation to a Delaware limited liability company bearing the name Compass Airlines, LLC, and immediately thereafter transfer Compass's certificate of public convenience and necessity, exemptions, designations,and any related operating authorities to Compass Airlines LLC, a Delaware Limited Liability Company.

Renee V. Wright,
Program Manager, Docket Operations,Federal Register Liaison.

[FR Doc. 2010-27022 Filed 10-25-10; 8:45 am]

BILLING CODE 4910-9X-P